DEPARTMENT OF HEALTH AND HUMAN SERVICES

Administration for Children and Families

Proposed Information Collection Activity; Comment Request

Proposed Projects

Title: TANF High Performance Bonus Report, Assessment of Medicaid and SCHIP Enrollment.

OMB No.: New Collection.

Description: Public Law 104-93 (PRWORA) established the Temporary Assistance for Needy Families (TANF) Program. It also included provisions for rewarding States that attain the highest levels of success in achieving the legislative goals of that program. The purpose of this collection is to obtain data upon which to base the computation for measuring State performance in meeting those goals by providing Medicaid and SCHIP work supports. DHHS will use the information to allocate the Medicaid/SCHIP portion of the bonus grant funds appropriated under the law and implemented by 45 CFR part 270 published on August 30, 2000. States will not be required to submit this information unless they elect to compete in a Medicaid/SCHIP measure for the TANF High Performance Bonus awards in Federal fiscal years 2002 or 2003, or any subsequent Federal fiscal year for which Congress authorizes and appropriates bonus funds.

Respondents: Respondents may include any of the 50 States, the District of Columbia, and the U.S. Territories of Guam, Puerto Rico, and the Virgin Islands.

Annual Burden Estimates
Instrument | No. of respondents | No. of responses per respondent | Average burden hours per response | Total burden hours
TANF high performance bonus report, assessment of Medicaid and SCHIP enrollment among individuals after leaving TANF assistance | 54 | 2 | 40 | 4,320
Estimated total annual burden hours |  |  |  | 4,320

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 14, 2001.
Bob Sargis,
Reports Clearance Officer.

[FR Doc. 01-4188 Filed 2-20-01; 8:45 am]

BILLING CODE 4184-01-M